DEPARTMENT OF ENERGY

Federal Energy Regulatory Commission

[Docket No. GT00-21-000]

Canyon Creek Compression Company; Notice of Proposed Changes in FERC Gas Tariff

March 30, 2000.

Take notice that on March 28, 2000, Canyon Creek Compression Company (Canyon) tendered for filing as part of its FERC Gas Tariff, Third Revised Volume No. 1, certain tariff sheets to be effective May 1, 2000.

Canyon states that the purpose of this filing is to make several minor “clean-up” type changes to its Tariff. None of these changes are substantive in nature, but rather are administrative changes to correct references in Canyon's Tariff which have become inaccurate due to changed circumstances. Specifically, the changes are to: (1) revise the Preliminary Statement to reflect a change in address and status of Canyon's Rate Schedules FCS and ICS to reflect a change in address and telecopy number for Canyon's Houston, Texas office; (3) revise Section 15.4 of the General Terms and Conditions (GT&C) of Canyon's Tariff regarding the installation of Internet software related to users of Canyon's DART software; (4) revise Section 31.2(a) of the GT&C of Canyon's Tariff to reflect a title and general office location reference change regarding the addressing of formal complaints; and (5) revise Section 34.3 of the GT&C of Canyon's Tariff to reflect a change in Canyon's Internet website address.

Canyon requests any waivers of the Commission's Regulations to the extent necessary to permit the tendered tariff sheets to become effective May 1, 2000.

Canyon states that copies of the filing have been mailed to Trailblazer's customers and interested state regulatory agencies.

Any person desiring to be heard or to protest said filing should file a motion to intervene or a protest with the Federal Energy Regulatory Commission, 888 First Street, NE, Washington, DC 20426, in accordance with Sections 285.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8290 Filed 4-4-00; 8:45 am]

BILLING CODE 6717-01-M